SURFACE TRANSPORTATION BOARD

30-Day Notice of Intent To Seek Extension of Approval of Collection: Statutory Licensing Authority

ACTION: Notice and request for comments.

AGENCY: Surface Transportation Board.

SUMMARY: As required by the Paperwork Reduction Act of 1995 (PRA), the Surface Transportation Board (STB or Board) gives notice of its intent to seek approval from the Office of Management and Budget (OMB) for an extension of approval for the information collection required from those seeking statutory licensing authority, as described below.

DATES: Comments on this information collection should be submitted by November 17, 2023.

ADDRESSES: Written comments should be identified as “Paperwork Reduction Act Comments, Surface Transportation Board, Statutory Licensing Authority.” Written comments for the proposed information collection should be submitted via www.reginfo.gov/public/do/PRAMain. This information collection can be accessed by selecting “Currently under Review—Open for Public Comments” or by using the search function. As an alternative, written comments may be directed to the Office of Management and Budget, Office of Information and Regulatory Affairs, Attention: Michael J. McManus, Surface Transportation Board Desk Officer: via email at oira_submission@omb.eop.gov; by fax at (202) 395-1743; or by mail to Room 10235, 725 17th Street NW, Washington, DC 20503.

Please also direct all comments to Chris Oehrle, PRA Officer, Surface Transportation Board, 395 E Street SW, Washington, DC 20423-0001, or to PRA@stb.gov. When submitting comments, please refer to “Paperwork Reduction Act Comments, Surface Transportation Board: Statutory Licensing Authority.” For further information regarding this collection, contact Michael Higgins, Deputy Director, Office of Public Assistance, Governmental Affairs, and Compliance, at (202) 245-0284 or michael.higgins@stb.gov. If you require an accommodation under the Americans with Disabilities Act, please call (202) 245-0245.

SUPPLEMENTARY INFORMATION: The Board previously published a notice about this collection in the Federal Register (88 FR 52237 (August 7, 2023)). That notice allowed for a 60-day public review and comment period. No comments were received.

Comments are requested concerning: (1) the accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Statutory Licensing Authority.

OMB Control Number: 2140-0023.

STB Form Number: None.

Type of Review: Extension without change.

Respondents: Rail carriers and non-carriers seeking statutory licensing or consolidation authority, an exemption from filing an application for such authority, or interchange commitments.

Number of Respondents: 85.

Estimated Time per Response:

Estimated Hours per Response
Type of filing | Number of hours per response under 49 U.S.C. 10901-03 and 11323-26
Applications | 575
Petitions * | 75
Notices * | 25
Interchange commitments | 10

Frequency: On occasion.

Average Annual Number of Responses for FY 2020-2022
Type of filing | Average number of filings per year under 49 U.S.C. 10901-03 and 11323-26
Applications | 7
Petitions * | 15
Notices * | 88
Interchange commitments | 5

Total Burden Hours (annually including all respondents): 7,300 hours (sum of estimated hours per response x number of responses for each type of filing).

Total Annual Burden Hours
Type of filing | Hours per response | Annual number of filings | Total annual burden hours
Applications | 575 | 7 | 4,025
Petitions * | 75 | 15 | 1,125
Notices * | 25 | 88 | 2,200
Interchange commitments | 10 | 5 | 50
Total annual burden hours |  |  | 7,300
* Under section 10502, petitions for exemption and notices of exemption are permitted in lieu of an application.

Total “Non-hour Burden” Cost: None identified. Filings are submitted electronically to the Board. However, for some filings, respondents are sometimes required to send documentation or consultation letters to various other governmental agencies or parties, some of which may involve limited mailing costs, which staff estimates in total to be approximately $2,100.

Needs and Uses: As mandated by Congress, an application for prior approval and authority must be filed with the Board by persons seeking to construct, acquire, or operate a line of railroad; by railroads seeking to abandon or discontinue operations over a line of railroad; and, in the case of two or more railroads, by railroads seeking to consolidate their interests through merger or a common-control arrangement. See 49 U.S.C. 10901-03, 11323-26. Under 49 U.S.C. 10502, persons may seek an exemption from many of the application requirements of sections 10901-03 and 11323-26 by filing with the Board a petition for exemption or notice of exemption in lieu of an application. The collection by the Board of these applications, petitions, and notices (including collection of disclosures of rail “interchange commitments” under 49 CFR 1121.3(d), 1150.33(h), 1150.43(h), and 1180.4(g)(4)) enables the Board to meet its statutory duty to regulate the referenced rail transactions. If the actions for which authority is sought create agreements with interchange commitments that limit the future interchange of traffic with third parties, then certain information must be disclosed to the Board about those commitments. 49 CFR 1121.3(d), 1150.33(h), 1150.43(h), 1180.4(g)(4). The collection of this information facilitates the case-specific review of interchange commitments and enables the Board's monitoring of their usage generally.

Under the PRA, a federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: October 13, 2023.
Kenyatta Clay,
Clearance Clerk.

[FR Doc. 2023-22973 Filed 10-17-23; 8:45 am]

BILLING CODE 4915-01-P